DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of February 1, 2020 through February 29, 2020. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path:

(i) The sales or production, or both, of such firm, have decreased absolutely;

AND (ii and iii below)

(ii)(I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path:

(i)(I) There has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e))must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
94,943 | Stimson Lumber Company, Aerotek | Gaston, OR | December 29, 2018
95,226 | Electric Research and Manufacturing Cooperative, Inc. (ERMCO), Arkansas Electric Cooperatives, Inc. (AECI), Hughes Staffing, Inc | Little Rock, AR | September 26, 2018
95,277 | SSB Manufacturing Company, Fredericksburg Plant, Simmons Bedding Company, Serta Simmons Bedding, etc | Fredericksburg, VA | October 10, 2018
95,316A | Integra Lifesciences, Dental Instruments, York Division, Willis International Limited, etc | York, PA | October 22, 2018
95,474 | Motionwear, LLC | Indianapolis, IN | December 12, 2018
95,556 | Spirit AeroSystems Inc., Acro Service Corporation, Aerotek, Aircraft Technology Group, etc | Wichita, KS | January 10, 2019

The following certifications have been issued. The requirements of Section 222(a)(2)(B) (Shift in Production or Services to a Foreign Country Path or Acquisition of Articles or Services from a Foreign Country Path) of the Trade Act have been met.

TA-W No. | Subject firm | Location | Impact date
95,043 | McAfee LLC, Enterprise Products | Hillsboro, OR | August 5, 2018.
95,043A | McAfee LLC, Customer Success Group | Hillsboro, OR | August 5, 2018.
95,066 | Hotelbeds USA, Inc., Global Financial Services department, Kelly Services | Orlando, FL | August 12, 2018.
95,066A | Hotelbeds, Tourico Holidays Flights, Global Financial Services department, Robert Half | Altamonte Springs, FL | August 12, 2018.
95,145 | Deutsche Bank USA Core Corporation, Trade Finance and Lending Operations Division, Deutsche Bank AG | New York, NY | September 4, 2018.
95,190 | Eagle Mine LLC, Exploration Department, Lundin Mining | Negaunee, MI | September 17, 2018.
95,204 | Concentrix CVG Customer Management Group Inc | Longview, TX | September 23, 2018.
95,253 | Rohr, Inc., Collins Aerospace, United Technologies, Adecco, etc | Chula Vista, CA | October 3, 2018.
95,316 | Integra Lifesciences, Surgical Lighting Products, York Division, Willis International, etc | York, PA | October 22, 2018.
95,330 | SpringAhead, Inc., Tallie | Walnut Creek, CA | October 27, 2018.
95,348 | Sitel Operating Corporation, Sitel LLC, Sitel Worldwide Corporation | Glasgow, KY | November 2, 2018.
95,360 | LEONI Wiring Systems, Inc., Accountemps, Robert Half, Finkenthal, UTG | Tucson, AZ | November 6, 2018.
95,363 | 99 Cents Only Store, Number Holdings Inc., Corporate Support Center | Commerce, CA | November 6, 2018.
95,365 | Jacobs Engineering Group, Inc., Accounting Services, CH2M Hill, CH2M Hill Engineers, etc | Englewood, CO | November 7, 2018.
95,369 | SAP America, SAP Sybase, Inc | San Ramon, CA | November 8, 2018.
95,393 | Syniverse Technologies, LLC., Syniverse Holdings, Inc | Tampa, FL | November 19, 2018.
95,410 | TE Connectivity, Medical, Terra Staffing Group, Express Employment Professionals, etc | Wilsonville, OR | November 21, 2018.
95,452 | CFS Brands LLC | Sparta, WI | December 5, 2018.
95,453 | Circa of America, LLC | San Francisco, CA | December 5, 2018.
95,464 | Tenneco Inc | Lincoln, NE | December 6, 2018.
95,466 | Accenture LLP, Software Utility Services (SUS) Division | Minneapolis, MN | December 9, 2018.
95,493 | Powerex, Inc | Youngwood, PA | December 16, 2018.
95,504 | JTEKT North America, Staffmark, Aerotek | Orangeburg, SC | December 20, 2018.
95,506 | Morgan Stanley Services Group, Inc., Corporate & Funding Technology (CFT) | New York, NY | December 20, 2018.
95,552 | Koos Manufacturing, Inc | South Gate, CA | April 7, 2019.
95,577 | Constantia Colmar, LLC., Constantia Flexibles America Company, PeopleShare | Colmar, PA | January 17, 2019.
95,590 | International Automotive Components (IAC), EG Workforce Solutions | Mendon, MI | January 22, 2019.
95,591 | Liberty Mutual Group, Inc., Agent Distribution & Services, Channel Support Operations Department, etc | Montoursville, PA | January 22, 2019.
95,650 | Langer Biomechanics, Inc., Orthotics Holdings, Inc., Aerotek | Ronkonkoma, NY | February 4, 2019.
95,654 | Brazeway, LLC, Brazeway Kentucky Plant, Evaporator Cell 6, Axel Johnson, Manpower, etc | Hopkinsville, KY | February 5, 2019.
95,664 | Spang Engineered Solutions, Magnetics Division, Spang & Company, Corporate Job Bank | Phonenix, AZ | February 5, 2019.

The following certifications have been issued. The requirements of Section 222(b) (supplier to a firm whose workers are certified eligible to apply for TAA) of the Trade Act have been met.

TA-W No. | Subject firm | Location | Impact date
95,179 | Innocor Foam Technologies, Division 5600, Innocor, Inc., Manpower | Lebanon, MO | September 12, 2018
95,201 | United State Steel Corporation, Great Lakes Works | Ecorse, MI | September 20, 2018
95,225 | Conifex El Dorado, Inc., Conifex USA, Inc | El Dorado, AR | September 26, 2018
95,262 | E. Roko Distributions, Inc., E. Roko Distributors, LTD | Kent, WA | October 4, 2018
95,524 | Cree, Inc., Radio Frequency (RF) Business | Morgan Hill, CA | December 31, 2018
95,589 | Ducommun Inc., Structures Solutions, Penmac Staffing, Contract Engineering Service, PMG | Parsons, KS | January 22, 2019
95,608 | Schenker Inc., Randstad, Aerotek | Wichita, KS | January 24, 2019
95,612 | Georgia-Pacific Gypsum, LLC, Cuba Gypsum Facility, Georgia-Pacific Building Products Operations LP, etc | Cuba, MO | January 27, 2019

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
95,034 | Transaction Network Services, Inc., Trident Private Holdings I, Accenture, Aricent Technologies, etc | Reston, VA
95,291 | Caterpillar Inc., Global Financial Service Division | Peoria, IL

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,665 | JK Architecture Engineering | Auburn, CA
95,183 | Bausch Health US, LLC, Customer Service, Bausch + Lomb/International division, etc | Irvine, CA
95,213 | Medtronic Plc, QC Analytical Lab, Cardiac & Vascular Group | Santa Rosa, CA
95,251 | Daimler Trucks North America, Cleveland Truck Manufacturing Plant, Daimler AG | Cleveland, NC
95,523 | Volvo Trucks North America, New River Valley Operations, Volvo Group | Dublin, VA

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,698 | Lumentum Operations LLC, Lumentum Holdings Inc., Randstad USA | Milpitas, CA
94,882 | AT&T Business—Global Operations & Services, Delivery Excellence/Regional Ordering Customer Care Team, etc | Bellaire, TX
94,917 | Johnny Appleseed, Inc., Orchard Portfolio Division, Bluestem Brands Inc | Middleton, MA
94,997 | TMK-IPSCO, IPSCO Tubulars Inc | Camanche, IA
95,058 | International Ingredient Corporation, Snelling | Clovis, NM
95,070 | Alsico USA, Inc., 3B Holdings, Accountemps, Randstad USA | Kent, OH
95,132 | Welocalize, Inc., NEPAL Parent Holdings, LLC, Linguistic Reviewers | Portland, OR
95,202 | Bimbo Bakeries USA, Inc., Bimbo Bakeries Inc., Grupo Bimbo, S.A.B. de C.V | South Sioux City, NE
95,210 | Quad/Graphics Inc., Shakopee Minnesota Plant, Masterson Staffing Services, Atlas Staffing, etc | Shakopee, MN
95,239 | Tire Tread Development | Mogadore, OH
95,241 | Bayou Steel BD Holdings LLC, EIU, Adecco, Core LLC, Personnel Consulting, River Parish Contractors, etc | LaPlace, LA
95,260 | SMM New England Corporation, Sims Metal Management, Ship Repair Business, Metal Management Northeast | Providence, RI
95,355 | Morgantown Machine & Hydraulics of West Virginia | Morgantown, WV
95,582 | Fort Dearborn Company, FD Winchester, LLC, Fort Dearborn Company | Harahan, LA

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
95,349 | Chattem Chemicals, Inc | Chattanooga, TN
95,663 | Resolute Forest Products | Augusta, GA

The following determinations terminating investigations were issued because the worker group on whose behalf the petition was filed is covered under an existing certification.

TA-W No. | Subject firm | Location | Impact date
94,644 | Georgia-Pacific Consumer Operations LLC, Port Hudson Operations, Georgia-Pacific LLC, Koch Industries Inc | Zachary, LA
94,644A | Georgia-Pacific Consumer Operations LLC, Sterling CNS Mill, Georgia-Pacific Building Products Operations LP, etc | Brunswick, GA
94,940 | Georgia-Pacific Consumer Operations LLC, Crossett Paper Operations, Georgia-Pacific LLC, Koch Industries Inc | Crossett, AR
95,010 | Sitel Operating Corporation, Sitel LLC, Sitel Worldwide Corporation | Caribou, ME

I hereby certify that the aforementioned determinations were issued during the period of February 1, 2020 through February 29, 2020. These determinations are available on the Department's website https://www.doleta.gov/tradeact/petitioners/taa_search_form.cfm under the searchable listing determinations or by calling the Office of Trade Adjustment Assistance toll free at 888-365-6822.

Signed at Washington, DC, this day of March 10th, 2020.
Hope D. Kinglock,
Certifying Officer, Office of Trade Adjustment Assistance.

[FR Doc. 2020-06089 Filed 3-23-20; 8:45 am]

BILLING CODE 4510-FN-P